DEPARTMENT OF TRANSPORTATION

Federal Aviation Administration

14 CFR Part 97

[Docket No. 31292; Amdt. No. 3887]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective January 27, 2020. The compliance date for each SIAP, associated Takeoff Minimums, and ODP is specified in the amendatory provisions.

The incorporation by reference of certain publications listed in the regulations is approved by the Director of the Federal Register as of January 27, 2020.

ADDRESSES: Availability of matters incorporated by reference in the amendment is as follows:

For Examination

1. U.S. Department of Transportation, Docket Ops-M30, 1200 New Jersey Avenue SE, West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, email fedreg.legal@nara.gov or go to: https://www.archives.gov/federal-register/cfr/ibr-locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedures and Airspace Group, Flight Technologies and Procedures Division, Flight Standards Service, Federal Aviation Administration. Mailing Address: FAA Mike Monroney Aeronautical Center, Flight Procedures and Airspace Group, 6500 South MacArthur Blvd., Registry Bldg. 29 Room 104, Oklahoma City, OK 73169. Telephone: (405) 954-4164.

SUPPLEMENTARY INFORMATION: This rule amends Title 14 of the Code of Federal Regulations, Part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on January 10, 2020.
Rick Domingo,
Executive Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 26 March 2020

Bay Minette, AL, Bay Minette Muni, RNAV (GPS) RWY 8, Amdt 2

Birmingham, AL, Birmingham-Shuttlesworth Intl, RNAV (RNP) Z RWY 6, Amdt 1A

Huntsville, AL, Huntsville Intl-Carl T Jones Field, ILS OR LOC RWY 36R, Amdt 4

Huntsville, AL, Huntsville Intl-Carl T Jones Field, RNAV (GPS) RWY 36R, Amdt 3

Albany, GA, Southwest Georgia Rgnl, ILS OR LOC RWY 5, Amdt 13B

Albany, GA, Southwest Georgia Rgnl, RNAV (GPS) RWY 5, Amdt 1D

Albany, GA, Southwest Georgia Rgnl, RNAV (GPS) RWY 17, Amdt 1C

Albany, GA, Southwest Georgia Rgnl, RNAV (GPS) RWY 23, Amdt 1C

Albany, GA, Southwest Georgia Rgnl, RNAV (GPS) RWY 35, Amdt 2C

Albany, GA, Southwest Georgia Rgnl, Takeoff Minimums and Obstacle DP, Orig-B

Albany, GA, Southwest Georgia Rgnl, VOR RWY 17, Amdt 27C

Iowa Falls, IA, Iowa Falls Muni, RNAV (GPS) RWY 13, Amdt 1A

Iowa Falls, IA, Iowa Falls Muni, RNAV (GPS) RWY 31, Amdt 2A

Orange City, IA, Orange City Muni, RNAV (GPS) RWY 16, Orig, CANCELLED

Orange City, IA, Orange City Muni, RNAV (GPS) RWY 34, Orig, CANCELLED

Orange City, IA, Orange City Muni, Takeoff Minimums and Obstacle DP, Orig, CANCELLED

Alton/St Louis, IL, St Louis Rgnl, ILS OR LOC RWY 29, Amdt 12C

Alton/St Louis, IL, St Louis Rgnl, LOC BC RWY 11, Amdt 9A, CANCELLED

Chicago, IL, Chicago O'Hare Intl, ILS OR LOC RWY 22L, ILS RWY 22L (SA CAT I), ILS RWY 22L (SA CAT II), Amdt 7

Peoria, IL, Mount Hawley Auxiliary, VOR-A, Orig-B

Columbus, IN, Columbus Muni, RNAV (GPS) RWY 14, Amdt 1C

Sullivan, IN, Sullivan County, NDB RWY 36, Amdt 7A, CANCELLED

Anthony, KS, Anthony Muni, VOR-A, Amdt 2A, CANCELLED

Owensboro, KY, Owensboro-Daviess County Rgnl, ILS OR LOC RWY 36, Amdt 14

Owensboro, KY, Owensboro-Daviess County Rgnl, VOR RWY 6, Amdt 2B

Owensboro, KY, Owensboro-Daviess County Rgnl, VOR RWY 18, Amdt 10B

Owensboro, KY, Owensboro-Daviess County Rgnl, VOR RWY 36, Amdt 19C

Boston, MA, General Edward Lawrence Logan Intl, ILS OR LOC RWY 4R, ILS RWY 4R SA CAT I, ILS RWY 4R CAT II, ILS RWY 4R CAT III, Amdt 11

Boston, MA, General Edward Lawrence Logan Intl, ILS OR LOC RWY 15R, Amdt 2

Boston, MA, General Edward Lawrence Logan Intl, ILS OR LOC RWY 27, Amdt 3

Boston, MA, General Edward Lawrence Logan Intl, RNAV (GPS) RWY 4R, Amdt 3

Boston, MA, General Edward Lawrence Logan Intl, RNAV (GPS) RWY 15R, Amdt 2

Boston, MA, General Edward Lawrence Logan Intl, RNAV (GPS) RWY 27, Amdt 1

Great Barrington, MA, Walter J. Koladza, NDB-A, Amdt 6, CANCELLED

Taunton, MA, Taunton Muni—King Field, NDB RWY 30, Amdt 5C, CANCELLED

Stevensville, MD, Bay Bridge, RNAV (GPS) RWY 11, Amdt 1B

Stevensville, MD, Bay Bridge, RNAV (GPS) RWY 29, Amdt 1A

Cloquet, MN, Cloquet Carlton County, NDB RWY 18, Amdt 4B

Cloquet, MN, Cloquet Carlton County, NDB RWY 36, Amdt 5B

Cloquet, MN, Cloquet Carlton County, Takeoff Minimums and Obstacle DP, Amdt 3

Rushford, MN, Rushford Muni-Robert W Bunke Field, RNAV (GPS) RWY 34, Orig-B

Laurel, MS, Hesler-Noble Field, RNAV (GPS) RWY 13, Amdt 1B

Laurel, MS, Hesler-Noble Field, RNAV (GPS) RWY 31, Amdt 1B

Tunica, MS, Tunica Muni, VOR-A, Orig-A

Baker, MT, Baker Muni, Takeoff Minimums and Obstacle DP, Amdt 2

Ahoskie, NC, Tri-County, VOR-A, Amdt 6A, CANCELLED

Roxboro, NC, Raleigh Rgnl at Person County, ILS OR LOC RWY 6, Amdt 1C

Roxboro, NC, Raleigh Rgnl at Person County, RNAV (GPS) RWY 24, Orig-C

Roxboro, NC, Raleigh Rgnl at Person County, Takeoff Minimums and Obstacle DP, Orig-A

Ainsworth, NE, Ainsworth Rgnl, VOR RWY 35, Amdt 4A

Atkinson, NE, Stuart-Atkinson Muni, RNAV (GPS) RWY 11, Amdt 1B

Lincoln, NE, Lincoln, RNAV (GPS) RWY 35, Orig-A

Roswell, NM, Roswell Air Center, Takeoff Minimums and Obstacle DP, Orig-B

Fulton, NY, Oswego County, RNAV (GPS) RWY 24, Amdt 1B

Fulton, NY, Oswego County, RNAV (GPS) RWY 33, Amdt 1A

Oneonta, NY, Albert S Nader Rgnl, Takeoff Minimums and Obstacle DP, Amdt 1A

Bluffton, OH, Bluffton, RNAV (GPS) RWY 23, Orig-B

Bluffton, OH, Bluffton, VOR RWY 23, Amdt 7B

Bowling Green, OH, Wood County, VOR RWY 18, Amdt 13A, CANCELLED

Fremont, OH, Sandusky County Rgnl, RNAV (GPS) RWY 6, Amdt 1B

Willoughby, OH, Lake County Executive, NDB RWY 10, Amdt 10B

Willoughby, OH, Lake County Executive, RNAV (GPS) RWY 5, Orig-B

Willoughby, OH, Lake County Executive, RNAV (GPS) RWY 10, Orig-C

Willoughby, OH, Lake County Executive, RNAV (GPS) RWY 23, Orig-C

Willoughby, OH, Lake County Executive, RNAV (GPS) RWY 28, Orig-B

Willoughby, OH, Lake County Executive, Takeoff Minimums and Obstacle DP, Amdt 3B

Enid, OK, Enid Woodring Rgnl, ILS OR LOC RWY 35, Amdt 7A

Enid, OK, Enid Woodring Rgnl, RNAV (GPS) RWY 17, Amdt 1A

Enid, OK, Enid Woodring Rgnl, VOR RWY 17, Amdt 13A

Enid, OK, Enid Woodring Rgnl, VOR RWY 35, Amdt 15A

Norman, OK, University of Oklahoma Westheimer, RNAV (GPS) RWY 18, Amdt 2B

Eugene, OR, Mahlon Sweet Field, RNAV (GPS) Y RWY 16L, Amdt 4A

North Bend, OR, Southwest Oregon Rgnl, COPTER ILS OR LOC RWY 5, Amdt 1A

North Bend, OR, Southwest Oregon Rgnl, ILS OR LOC RWY 5, Amdt 8A

North Bend, OR, Southwest Oregon Rgnl, Takeoff Minimums and Obstacle DP, Amdt 7

North Bend, OR, Southwest Oregon Rgnl, VOR RWY 5, Amdt 11A

North Bend, OR, Southwest Oregon Rgnl, VOR-A, Amdt 6A

North Bend, OR, Southwest Oregon Rgnl, VOR-B, Amdt 5A

Erie, PA, Erie Intl/Tom Ridge Field, ILS OR LOC RWY 24, Amdt 11

Erie, PA, Erie Intl/Tom Ridge Field, NDB RWY 24, Amdt 20, CANCELLED

Philadelphia, PA, Philadelphia Intl, ILS OR LOC RWY 27L, Amdt 14C

San Juan, PR, Luis Munoz Marin Intl, Takeoff Minimums and Obstacle DP, Amdt 8

Winner, SD, Winner Rgnl, VOR-A, Amdt 7B, CANCELLED

Dyersburg, TN, Dyersburg Rgnl, RNAV (GPS) RWY 4, Amdt 2C

Nashville, TN, Nashville Intl, ILS OR LOC RWY 2C, Amdt 2A

Mineral Wells, TX, Mineral Wells Rgnl, ILS OR LOC RWY 31, Amdt 1A

Tyler, TX, Tyler Pounds Rgnl, ILS OR LOC RWY 4, Orig

Tyler, TX, Tyler Pounds Rgnl, RNAV (GPS) RWY 4, Amdt 4

Weslaco, TX, Mid Valley, RNAV (GPS) RWY 14, Orig-B

Blanding, UT, Blanding Muni, RNAV (GPS) RWY 35, Amdt 2C

Norfolk, VA, Hampton Roads Executive, ILS OR LOC RWY 10, Orig

Boscobel, WI, Boscobel, RNAV (GPS) RWY 7, Orig-B

Chetek, WI, Chetek Muni-Southworth, RNAV (GPS) RWY 17, Orig-E

Hartford, WI, Hartford Muni, RNAV (GPS) RWY 11, Orig-A, CANCELLED

Hartford, WI, Hartford Muni, RNAV (GPS) RWY 29, Orig-A, CANCELLED

Hartford, WI, Hartford Muni, Takeoff Minimums and Obstacle DP, Amdt 1

Phillips, WI, Price County, RNAV (GPS) RWY 1, Amdt 1A

Phillips, WI, Price County, RNAV (GPS) RWY 6, Orig-D

Superior, WI, Richard I Bong, RNAV (GPS) RWY 4, Orig-C

Superior, WI, Richard I Bong, RNAV (GPS) RWY 14, Orig-C

Superior, WI, Richard I Bong, RNAV (GPS) RWY 32, Orig-C

Viroqua, WI, Viroqua Muni, RNAV (GPS) RWY 29, Orig-C

Wheeling, WV, Wheeling Ohio Co, VOR RWY 21, Amdt 16A

[FR Doc. 2020-00891 Filed 1-24-20; 8:45 am]

BILLING CODE 4910-13-P